ENVIRONMENTAL PROTECTION AGENCY

40 CFR Part 81

[ID-02-002; FRL-7422-3]

Approval and Promulgation of Implementation Plans; Idaho; Designation of Areas for Air Quality Planning Purposes; Idaho

Correction

In the issue of Wednesday, February 12, 2003, on page 7174, in the third column, in the correction of rule document 03-856, under § 81.313 [Corrected], in the first line, “§ 83.313” should read “ § 81.313”.

[FR Doc. C3-856 Filed 2-18-03; 8:45 am]

BILLING CODE 1505-01-D